DEPARTMENT OF THE INTERIOR

Minerals Management Service

Outer Continental Shelf (OCS) Scientific Committee; Announcement of Plenary Session

AGENCY: Minerals Management Service, Interior.

ACTION: Notice of meeting.

SUMMARY: The OCS Scientific Committee will meet at the Hyatt Regency New Orleans at Louisiana Superdome in New Orleans, Louisiana.

DATES: Wednesday, April 21, 2004, from 8:30 a.m. to 5 p.m.; Thursday, April 22, from 8 a.m. to 5 p.m.; and Friday, April 23, from 8 a.m. to 12 p.m.

ADDRESSES: Hyatt Regency New Orleans at Louisiana Superdome, 500 Poydras Avenue, New Orleans, Louisiana 70113-1805, telephone (504) 561-1234.

FOR FURTHER INFORMATION CONTACT: A copy of the agenda may be requested from MMS by calling Ms. Carolyn Beamer at (703) 787-1211. Other inquiries concerning the OCS Scientific Committee meeting should be addressed to Dr. James Kendall, Executive Secretary to the OCS Scientific Committee, Minerals Management Service, 381 Elden Street, Mail Stop 4043, Herndon, Virginia 20170-4817 or by calling (703) 787-1656.

SUPPLEMENTARY INFORMATION: The OCS Scientific Committee is an outside group of non-Federal scientists which advises the Director, MMS, on the feasibility, appropriateness, and scientific merit of the MMS OCS Environmental Studies Program as it relates to information needed for informed OCS decisionmaking.

The Committee will meet in plenary session on Wednesday morning, April 21. Presentations will be made by the Deputy Associate Director for Offshore Minerals Management, the MMS Gulf of Mexico Regional Director, and the MMS Chief Scientist. For the remainder of the day, and through Thursday, April 22, the Committee will meet in discipline breakout sessions (i.e., physical oceanography, biology, and socioeconomics) to review the specific research plans of the regional offices for Fiscal Years 2005 and 2006 in the context of regional decisionmaking.

On Friday morning, April 23, the Committee will meet in plenary session for reports of the discipline breakout sessions of the previous day and to continue with Committee Business.

The meetings are open to the public. Approximately 30 visitors can be accommodated on a first-come-first-served basis at the plenary session.

Authority: Federal Advisory Committee Act, Pub. L. 92-463, 5 U.S.C., Appendix I, and the Office of Management and Budget's Circular A-63, Revised.

Dated: March 1, 2004.
Thomas A. Readinger,
Associate Director for Offshore Minerals Management.

[FR Doc. 04-5885 Filed 3-15-04; 8:45 am]

BILLING CODE 4043-MR-P